DEPARTMENT OF AGRICULTURE

Forest Service

South Central Idaho Resource Advisory Committee; Meeting

AGENCY: Forest Service, USDA.

ACTION: Notice of meeting.

SUMMARY: The South Central Idaho Resource Advisory Committee will meet in Jerome, Idaho. The committee is meeting as authorized under the Secure Rural Schools and Community Self-Determination Act (Pub. L. 110-343) and in compliance with the Federal Advisory Committee Act. The purpose of the meeting is to preview projects and award funding for project completion.

DATES: The meeting will be held March 2, 2011, 9 a.m.

ADDRESSES: The meeting will be held at the Idaho Department of Fish and Game, 319 S 417 E, Jerome, Idaho 83338. Written comments should be sent to the Sawtooth National Forest, Attn: Julie Thomas, 2647 Kimberly Road East, Twin Falls, Idaho 83301. Comments may also be sent via e-mail to jathomas@fs.fed.us, or via facsimile to 208-737-3236.

All comments, including names and addresses when provided, are placed in the record and are available for public inspection and copying. The public may inspect comments received at the Sawtooth National Forest, 2647 Kimberly Road East, Twin Falls, Idaho 83301. Visitors are encouraged to call ahead to 208-737-3200 to facilitate entry into the building.

FOR FURTHER INFORMATION CONTACT: Julie Thomas, Designated Federal Official, Sawtooth National Forest, 208-737-3200.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: This Resource Advisory Committee meeting will specifically deal with project purview and funding of projects. The agenda for the meeting can be found at http://www.fs.usda.gov/sawtooth. Persons who wish to bring related matters to the attention of the Committee may file written statements with the Committee staff before or after the meeting. Public input sessions will be provided and individuals who made written requests by February 24, 2011 will have the opportunity to address the Committee at those sessions.

Dated: February 14, 2011.
Julie A. Thomas,
Federal Designated Officer.

[FR Doc. 2011-3697 Filed 2-17-11; 8:45 am]

BILLING CODE 3410-11-P